DEPARTMENT OF LABOR

Pension and Welfare Benefits Administration

[Prohibited Transaction Exemption 2000-49; Exemption Application Nos. D-10879]

Actuarial Sciences Associates, Inc. (ASA) and ASA Fiduciary Counselors Inc. (ASA) Counselors), Located in Alexandria, VA

AGENCY: Pension and Welfare Benefits Administration, U.S. Department of Labor (the Department).

ACTION: Notice of Technical Correction.

On October 11, 2000, the Department published in the Federal Register (65 FR 60454) an individual exemption which permits a transaction between a party in interest with respect to the Plumbers and Pipe Fitters National Pension Fund (the Fund) and an account that holds certain assets of the Fund managed by ASA or ASA Counselors, while serving as independent named fiduciary in connection with Prohibited Transaction Exemption 99-46 (64 FR 61944, November 15, 1999).

On page 60454 of the grant notice, the Prohibited Transaction Exemption (PTE) number was erroneously listed as 2000-47. The PTE number for this exemption is 2000-49. Therefore, the Department hereby corrects such error by designating the exemption as PTE 2000-49.

FOR FURTHER INFORMATION CONTACT: Ms. Angelena LeBlanc of the Department at (202) 219-8883. (This is not a toll-free number.)

Signed at Washington, D.C., this 13th day of October, 2000.
Ivan L. Strasfeld,
Director of Exemption Determinations, Pension and Welfare Benefits Administration, U.S. Department of Labor.

[FR Doc. 00-26790 Filed 10-18-00; 8:45 am]

BILLING CODE 4510-29-P